DEPARTMENT OF AGRICULTURE

Animal and Plant Health Inspection Service

[Docket No. APHIS-2021-0011]

Addition of the Republic of Croatia, the Republic of Senegal, and the People's Democratic Republic of Algeria to the List of Regions Affected With Highly Pathogenic Avian Influenza

AGENCY: Animal and Plant Health Inspection Service, USDA.

ACTION: Notice.

SUMMARY: We are advising the public that we added the Republic of Croatia, the Republic of Senegal, and the People's Democratic Republic of Algeria to the list of regions that the Animal and Plant Health Inspection Service considers to be affected by highly pathogenic avian influenza (HPAI). These actions follow our imposition of HPAI-related restrictions on avian commodities originating from or transiting the Republic of Croatia, the Republic of Senegal, and the People's Democratic Republic of Algeria, as a result of the confirmation of HPAI in the Republic of Croatia, the Republic of Senegal, and the People's Democratic Republic of Algeria.

DATES: The Republic of Croatia, the Republic of Senegal, and the People's Democratic Republic of Algeria were added to the list of regions APHIS considers to be affected with HPAI, effective respectively on November 25, 2020; January 12, 2021; and February 10, 2021.

FOR FURTHER INFORMATION CONTACT: For further information regarding HPAI in the Republic of Croatia, contact Dr. Michael T. Ray, Regionalization Evaluation Services, Strategy and Policy, APHIS Veterinary Services, 920 Main Campus Drive, Venture II, Raleigh, NC 27606; phone: (919) 855-7225; email: ASKRegionalization@usda.gov. For further information regarding HPAI in the Republic of Senegal or the People's Democratic Republic of Algeria, contact Dr. John Grabau, Regionalization Evaluation Services, APHIS Veterinary Services, 920 Main Campus Drive, Venture II, Raleigh, NC 27606; phone: (919) 855-7738; email: ASKRegionalization@usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. The Animal and Plant Health Inspection Service (APHIS) maintains a restrictions list of regions it considers affected with HPAI of any subtype on the APHIS website at https://www.aphis.usda.gov/aphis/ourfocus/animalhealth/animal-and-animal-product-import-information/animal-health-status-of-regions.

APHIS receives notice of HPAI outbreaks from veterinary officials of the exporting country, from the World Organization for Animal Health (OIE),¹ or from other sources the Administrator determines to be reliable.

¹ The World Organization for Animal Health internationally follows a British English spelling of “organisation” in its name; also, it was formerly the Office International des Epizooties, or OIE, an acronym still in usage.

On November 18, 2020, the veterinary authorities of the Republic of Croatia reported to the OIE an HPAI occurrence in that country. On November 25, 2020, after confirming that HPAI occurred in commercial birds or poultry, APHIS added the Republic of Croatia to the list of regions where HPAI exists. On that same date, APHIS issued an import alert notifying stakeholders that effective November 21, 2020, APHIS imposed restrictions on the importation of poultry, commercial birds, other types of birds (research, performing), ratites, any avian hatching eggs, unprocessed avian products and byproducts, and certain fresh poultry products from the Republic of Croatia to mitigate risk of HPAI introduction into the United States.

On January 7, 2021, the veterinary authorities of the Republic of Senegal reported to the OIE an HPAI occurrence in that country. On January 12, 2021, after confirming that the HPAI occurred in commercial birds or poultry, APHIS added the Republic of Senegal to the list of regions where HPAI exists. On that same date, APHIS issued an import alert notifying stakeholders that effective December 30, 2020, APHIS imposed restrictions on the importation of poultry, commercial birds, other types of birds (research, performing), ratites, any avian hatching eggs, unprocessed avian products and byproducts, and certain fresh poultry products from the Republic of Senegal to mitigate risk of HPAI introduction into the United States.

On February 8, 2021, the veterinary authorities of the People's Democratic Republic of Algeria reported to the OIE an HPAI occurrence in that country. On February 10, 2021, after confirming that the HPAI occurred in commercial birds or poultry, APHIS added the People's Democratic Republic of Algeria to the list of regions where HPAI exists. On that same date, APHIS issued an import alert notifying stakeholders that effective January 26, 2021, APHIS imposed restrictions on the importation of poultry, commercial birds, other types of birds (research, performing), ratites, any avian hatching eggs, unprocessed avian products and byproducts, and certain fresh poultry products from the People's Democratic Republic of Algeria to mitigate risk of HPAI introduction into the United States.

With the publication of this notice, we are informing the public that we added: The Republic of Croatia to the list of regions APHIS considers affected with HPAI of any subtype, effective November 25, 2020; the Republic of Senegal to the list of regions APHIS considers affected with HPAI of any subtype, effective January 12, 2021; and the People's Democratic Republic of Algeria to the list of regions APHIS considers affected with HPAI of any subtype, effective February 10, 2021. This notice serves as an official record and public notification of these actions.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 23rd day of July 2021.
Michael Watson,
Acting Administrator, Animal and Plant Health Inspection Service.

[FR Doc. 2021-16941 Filed 8-6-21; 8:45 am]

BILLING CODE 3410-34-P